DEPARTMENT OF COMMERCE

National Oceanic and Atmospheric Administration

[RTID 0648-XE251]

Marine Mammals; File No. 23188

AGENCY: National Marine Fisheries Service (NMFS), National Oceanic and Atmospheric Administration (NOAA), Commerce.

ACTION: Notice; withdrawal of application.

SUMMARY: Notice is hereby given that the Institute of Marine Sciences, University of California at Santa Cruz, 130 McAllister Way, Santa Cruz, CA 95060 (Responsible Party: Daniel Costa, Ph.D.) has withdrawn their application for an amendment to Scientific Research Permit No. 23188-03.

DATES: This notice was published on September 3, 2024.

ADDRESSES: The application and related documents are available for review upon written request via email to NMFS.Pr1Comments@noaa.gov.

FOR FURTHER INFORMATION CONTACT: Sara Young or Shasta McClenahan, Ph.D., (301) 427-8401.

SUPPLEMENTARY INFORMATION: On November 20, 2023, a notice was published in the Federal Register (88 FR 80694) that a request for an amendment to a scientific research permit had been submitted by the above-named applicant. The applicant has withdrawn the amendment application from further consideration.

Dated: August 27, 2024.
Julia M. Harrison,
Chief, Permits and Conservation Division, Office of Protected Resources, National Marine Fisheries Service.

[FR Doc. 2024-19636 Filed 8-30-24; 8:45 am]

BILLING CODE 3510-22-P